DEPARTMENT OF THE INTERIOR

Fish and Wildlife Service

[FWS-R4-ES-2019-N067; FXES11140400000-190-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act of 1973, as amended. We invite the public and local, State, Tribal, and Federal agencies to comment on these applications. Before issuing any of the requested permits, we will take into consideration any information that we receive during the public comment period.

DATES: We must receive written data or comments on the applications by July 25, 2019.

ADDRESSES:

Reviewing Documents: Documents and other information submitted with the applications are available for review, subject to the requirements of the Privacy Act and Freedom of Information Act. Submit a request for a copy of such documents to Karen Marlowe (see FOR FURTHER INFORMATION CONTACT).

Submitting Comments: If you wish to comment, you may submit comments by one of the following methods:

• U.S. mail or hand-delivery: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone), karen_marlowe@fws.gov (email), or 404-679-7081 (fax). Individuals who are hearing or speech impaired may call the Federal Relay Service at 1-800-877-8339 for TTY assistance.

SUPPLEMENTARY INFORMATION: We invite review and comment from local, State, and Federal agencies and the public on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits activities that constitute take of listed species unless a Federal permit is issued that allows such activities. The ESA's definition of “take” includes hunting, shooting, harming, wounding, or killing, and also such activities as pursuing, harassing, trapping, capturing, or collecting.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit application No. | Applicant | Species/numbers | Location | Activity | Type of take | Permit action
TE 30127D-0 | National Park Service, Asheville, NC | Cumberland elktoe (Alasmidonta atropurpurea), spectaclecase (Cumberlandia monodonta), dromedary pearlymussel (Dromus dromas), Cumberlandian combshell (Epioblasma brevidens), oyster mussel (Epioblasma capsaeformis), tan riffleshell (Epioblasma walkeri), pink mucket (Lampsilis abrupta), Alabama lampmussel (Lampsilis virescens), littlewing pearlymussel (Pegias fabula), clubshell (Pleurobema clava), fluted kidneyshell (Ptychobranchus subtentum), and Cumberland bean (Villosa trabalis) | Big South Fork National River and Recreation Area and Obed Wild and Scenic River, Kentucky and Tennessee | Presence/absence surveys | Capture, handle, identify, and release | New.
TE 33227D-0 | Jason Wisniewski, Mt. Juliet, TN | Cumberland elktoe (Alasmidonta atropurpurea), Appalachian elktoe (Alasmidonta raveneliana), fat threeridge (Amblema neislerii), spectaclecase (Cumberlandia monodonta), fanshell (Cyprogenia stegaria), dromedary pearlymussel (Dromus dromas), Altamaha spinymussel (Elliptio spinosa), Chipola slabshell (Elliptio chipolaensis), Purple bankclimber (Elliptoideus sloatianus), Cumberlandian combshell (Epioblasma brevidens), oyster mussel (Epioblasma capsaeformis), Curtis pearlymussel (Epioblasma florentina curtisii), yellow blossom (Epioblasma florentina florentina), tan riffleshell (Epioblasma florentina walkeri), upland combshell (Epioblasma metastriata), purple cat's paw (Epioblasma obliquata obliquata), white catspaw (Epioblasma obliquata perobliqua), southern acornshell (Epioblasma othcaloogensis), southern combshell (Epioblasma penita), green blossom (Epioblasma torulosa gubernaculum), northern riffleshell (Epioblasma torulosa rangiana), tubercled blossom (Epioblasma torulosa torulosa), snuffbox mussel (Epioblasma triquetra), turgid blossom (Epioblasma turgidula), shiny pigtoe (Fusconaia cor), finerayed pigtoe (Fusconaia cuneolus), cracking pearlymussel (Hemistena lata), pink mucket (Lampsilis abrupta), finelined pocketbook (Lampsilis altilis), shinyrayed pocketbook (Lampsilis subangulata), Alabama lampmussel (Lampsilis virescens), birdwing pearlymussel (Lemiox rimosus) Alabama moccasinshell (Medionidus acutissimus), Coosa moccasinshell (Medionidus parvulus), Gulf moccasinshell (Medionidus penicillatus), Ochlockonee moccasinshell (Medionidus simpsonianus), Suwannee moccasinshell (Medionidus walkeri), ring pink (Obovaria retusa), littlewing pearlymussel (Pegias fabula), white wartyback (Plethobasus cicatricosus), orangefoot pimpleback (Plethobasus cooperianus), sheepnose mussel (Plethobasus cyphyus), clubshell (Pleurobema clava), southern clubshell (Pleurobema decisum), southern pigtoe (Pleurobema georgianum), Cumberland pigtoe (Pleurobema gibberum), Georgia pigtoe (Pleurobema hanleyianum), rough pigtoe (Pleurobema plenum), oval pigtoe (Pleurobema pyriforme), slabside pearlymussel (Pleuronaia dolabelloides), triangular kidneyshell (Ptychobranchus greenii), fluted kidneyshell (Ptychobranchus subtentum), rabbitsfoot (Quadrula cylindrica cylindrica), rough rabbitsfoot (Quadrula cylindrica strigillata), Cumberland monkeyface (Quadrula intermedia), Appalachian monkeyface (Quadrula sparsa), pale lilliput (Toxolasma cylindrellus), rayed bean (Villosa fabalis), purple bean (Villosa perpurpurea), and Cumberland bean (Villosa trabalis) | Alabama, Florida, Georgia, Kentucky, North Carolina, Tennessee, and Virginia | Presence/absence surveys | Capture, handle, identify, mark, and release | New.
TE 087191-4 | Sandhills Ecological Institute, Southern Pines, NC | Red-cockaded woodpecker (Picoides borealis) | North Carolina, South Carolina | Research on avian keratin disorder | Buccal and cloacal swabbing and salvage of dead specimens | Amendment.
TE 64393C-1 | Vanasse Hangen Brustlin, Inc., Raleigh, NC | Gray bat (Myotis grisescens), Indiana bat (Myotis sodalis), northern long-eared bat (Myotis septentrionalis) | Kansas, Montana, Nebraska, North Dakota, Oklahoma, South Dakota, and Wyoming | Presence/absence surveys and population monitoring | Capture with mist nets, handle, identify, band, and radio-tag | Amendment.
TE 88778B-1 | John Lamb, Arnold Air Force Base, TN | Gray bat (Myotis grisescens), Indiana bat (Myotis sodalis), and northern long-eared bat (Myotis septentrionalis) | Tennessee | Presence/absence surveys and population monitoring | Enter hibernacula or maternity roost caves, capture with mist nets or harp traps, handle, identify, band, radio-tag, collect hair samples, light-tag, wing-punch, and salvage | Renewal.
TE 063179-7 | Linda Edwards, Atlanta, GA | Mussels: Cumberland elktoe (Alasmidonta atropurpurea), Appalachian elktoe (Alasmidonta raveneliana), spectaclecase (Cumberlandia monodonta), fanshell (Cyprogenia stegaria), dromedary pearlymussel (Dromas dromas), Cumberland clubshell (Epioblasma brevidens), oyster mussel (Epioblasma capsaeformis), yellow blossom (Epioblasma florentina florentina), tan riffleshell (Epioblasma florentina walkeri), upland combshell (Epioblasma metastriata), southern acornshell (Epioblasma othcaloogensis), green blossom (Epioblasma torulosa gubernaculum), tubercled blossom (Epioblasma torulosa torulosa), snuffbox mussel (Epioblasma triquetra), turgid blossom (Epioblasma turgidula), shiny pigtoe (Fusconaia cor), finerayed pigtoe (Fusconaia cuneolus), cracking pearly mussel (Hemistena lata), pink mucket (Lampsilis abrupta), finelined pocketbook (lampsilis altilis), Alabama lampmussel (Lampsilis virescens), birdwing pearly mussel (Lemiox rimosus), Alabama moccasinshell (Medionidus acutissimus), Coosa moccasinshell (Medionidus parvulus), ring pink (Obovaria retusa), littlewing pearlymussel (Pegias fabula), white wartyback (Plethobasus cicatricosus), orangefoot pimpleback (Plethobasus cooperianus), sheepnose mussel (Plethobasus cyphyus), clubshell (Pleurobema clava), southern clubshell (Pleurobema decisum), southern pigtoe (Pleurobema georgianum), Georgia pigtoe (Pleurobema hanleyianum), Cumberland pigtoe (Pleurobema gibberum), ovate clubshell (Pleurobema perovatum), rough pigtoe (Pleurobema plenum), slabside pearlymussel (Pleurnaia dollabelloides), fat pocketbook (Potamilis capax), triangular kidneyshell (Ptychobranchus greenii), fluted kidneyshell (Ptychobranchus subtentum), rabbitsfoot (Quadrula cylindrica cylindrica), rough rabbitsfoot (Quadrula cylindrica strigillata), winged mapleleaf (Quadrula fragosa), Cumberland monkeyface (Quadrula intermedia), Appalachian monkeyface (Quadrula sparsa), pale lilliput (Toxolasma cylindrellus), rayed bean (Villosa fabalis), purple bean (Villosa perpurpurea), Cumberland bean (Villosa trabalis);
|  | Crayfish: Nashville crayfish (Orconectes shoupi); Fish: Laurel dace (Chrosomus saylori), blue shiner (Cyprinella caerulaea), bluemask darter (Etheostoma akatulo), Okaloosa darter (Etheostoma okaloosae), duskytail darter (Etheostoma percnurum), Cumberland darter (Etheostoma susanae), trispot darter (Etheostoma trisella), boulder darter (Etheostoma wapiti), smoky madtom (Noturus baileyi), chucky madtom (Noturus crypticus), pygmy madtom (Noturus stanauli), amber darter (Percina antesella), goldline darter (Percina aurolineata), Conasauga logperch (Percina jenkinsi), snail darter (Percina tanasi), blackside dace (Phoxinus cumberlandensis), and Snail: Anthony's riversnail (Athearnia anthonyi) | Florida, Georgia, North Carolina, South Carolina, and Tennessee | Presence/absence surveys | Capture, handle, identify, and release | Amendment.
TE 02200B-1 | Atlanta Botanical Garden, Atlanta, GA | Lepanthes eltoroensis (NCN) | El Yunque National Forest, Puerto Rico | Long-term storage and artificial propagation | Collect seeds | Amendment.

Authority

We publish this notice under section 10(c) of the Endangered Species Act of 1973, as amended (16 U.S.C. 1531 et seq.).

Franklin Arnold,
Acting Assistant Regional Director, Ecological Services, Southeast Region.

[FR Doc. 2019-13435 Filed 6-24-19; 8:45 am]

BILLING CODE 4333-15-P